FEDERAL COMMUNICATIONS COMMISSION

[GN Docket No. 19-329; FR ID 175157]

Federal Advisory Committee Act; Task Force for Reviewing the Connectivity and Technology Needs of Precision Agriculture in the United States

AGENCY: Federal Communications Commission.

ACTION: Notice of public meeting.

SUMMARY: In accordance with the Federal Advisory Committee Act, this notice advises interested persons that the Federal Communications Commission's (FCC or Commission) Task Force for Reviewing the Connectivity and Technology Needs of Precision Agriculture in the United States (Task Force) will hold its next meeting live and via live internet link.

DATES: November 6, 2023. The meeting will come to order at 10:00 a.m. ET.

ADDRESSES: The meeting will be open to the public and held in the Commission Meeting Room at FCC Headquarters, located at 45 L Street NE, Washington, DC 20554, and will also be available via live feed from the FCC's web page at www.fcc.gov/live.

FOR FURTHER INFORMATION CONTACT: Christi Shewman, Designated Federal Officer, at (202) 418-0646, or Christi.Shewman@fcc.gov; Emily Caditz, Deputy Designated Federal Officer, at (202) 418-2268, or Emily.Caditz@fcc.gov; or Thomas Hastings, Deputy Designated Federal Officer, at (202) 418-1343, or Thomas.Hastings@fcc.gov.

SUPPLEMENTARY INFORMATION: The meeting will be held on November 6, 2023 at 10:00 a.m. ET in the Commission Meeting Room at FCC Headquarters, 45 L Street NE, Washington, DC, and will be open to the public, with admittance limited to seating availability. Any questions that arise during the meeting should be sent to PrecisionAgTF@fcc.gov and will be answered at a later date. Members of the public may submit comments to the Task Force in the FCC's Electronic Comment Filing System, ECFS, at www.fcc.gov/ecfs. Comments to the Task Force should be filed in GN Docket No. 19-329.

Open captioning will be provided for this event. Other reasonable accommodations for people with disabilities are available upon request. Requests for such accommodations should be submitted via email to fcc504@fcc.gov or by calling the Consumer & Governmental Affairs Bureau at (202) 418-0530 (voice). Such requests should include a detailed description of the accommodation needed. In addition, please include a way the FCC can contact you if it needs more information. Please allow at least five days' advance notice; last-minute requests will be accepted but may not be possible to fill.

Proposed Agenda: At this meeting, the Task Force plans to vote on reports and recommendations discussed during the Task Force's term. This agenda may be modified at the discretion of the Task Force Chair and the Designated Federal Officer.

(5 U.S.C. App. 2 10(a)(2))

Federal Communications Commission.
Jodie May,
Division Chief, Competition Policy Division, Wireline Competition Bureau.

[FR Doc. 2023-21394 Filed 9-28-23; 8:45 am]

BILLING CODE 6712-01-P